DEPARTMENT OF HEALTH AND HUMAN SERVICES

Meeting of the 2018 Physical Activity Guidelines Advisory Committee

AGENCY: Office of Disease Prevention and Health Promotion, Office of the Assistant Secretary for Health, Office of the Secretary, U.S. Department of Health and Human Services.

ACTION: Notice.

SUMMARY: As stipulated by the Federal Advisory Committee Act (FACA), the U.S. Department of Health and Human Services (HHS) is hereby giving notice that a meeting of the 2018 Physical Activity Guidelines Advisory Committee (2018 PAGAC or Committee) will be held. This meeting will be open to the public.

DATES: The meeting will be held on July 14, 2016, from 8:30 a.m. E.D.T. to 11:30 a.m. E.D.T. and on July 15, 2016, from 8:00 a.m. E.D.T. to 3:15 p.m. E.D.T.

ADDRESSES: The meeting will be accessible by webcast on the Internet or by attendance in-person. For in-person participants the meeting will take place in the National Institutes of Health (NIH) John Edward Porter Neuroscience Research Center (PNRC), Building 35, Seminar Room 620. The facility is located at the NIH Main Campus at 9000 Rockville Pike, Bethesda, MD 20892.

FOR FURTHER INFORMATION CONTACT: Designated Federal Officer, 2018 Physical Activity Guidelines Advisory Committee, Richard D. Olson and/or Alternate Designated Federal Officer, Katrina L. Piercy, Ph.D., R.D., Office of Disease Prevention and Health Promotion (ODPHP), Office of the Assistant Secretary for Health (OASH), HHS; 1101 Wootton Parkway, Suite LL-100; Rockville, MD 20852; Telephone: (240) 453-8280. Additional information is available at www.health.gov/paguidelines.

SUPPLEMENTARY INFORMATION:

Purpose: The inaugural Physical Activity Guidelines for Americans (PAG), issued in 2008, represents the first comprehensive guidelines on physical activity issued by the federal government. The PAG provides science-based advice on how physical activity can help promote health and reduce the risk of chronic disease. The PAG serves as the benchmark and primary, authoritative voice of the federal government for providing science-based guidance on physical activity, fitness, and health in the United States. Five years after the first edition of the PAG was released, ODPHP, in collaboration with the Centers for Disease Control and Prevention (CDC), the National Institutes of Health (NIH), and the President's Council on Fitness, Sports, and Nutrition (PCFSN) led development of the PAG Midcourse Report: Strategies to Increase Physical Activity Among Youth. The second edition of the PAG will build upon the first edition and provide a foundation for federal recommendations and education for physical activity programs for Americans, including those at risk for chronic disease.

The Secretary of HHS approved establishment of the 2018 PAGAC as a discretionary federal advisory committee. The Committee will provide the Department with independent, science-based advice and recommendations. The 2018 PAGAC consists of a panel of experts who are selected from the private sector. Individuals who are selected to serve on the 2018 PAGAC must have current scientific knowledge in the field of human physical activity and health promotion or the prevention of chronic disease.

Appointed Committee Members: As stipulated in the charter, the 2018 PAGAC will be composed of 11-17 members. Members of the Committee are appointed by the Secretary. Information on Committee membership is available at www.health.gov/paguidelines.

Committee's Task: The work of the 2018 PAGAC will be time-limited and solely advisory in nature. The Committee will develop recommendations based on the preponderance of current scientific and medical knowledge using a systematic review approach. The 2018 PAGAC will examine the current PAG, take into consideration new scientific evidence and current resource documents, and develop a report to the Secretary of HHS that outlines its science-based advice and recommendations for development of the PAG, second edition. The Committee will hold approximately five public meetings to review and discuss recommendations. Meeting dates, times, locations, and other relevant information will be announced at least 15 days in advance of each meeting via Federal Register notice. As stipulated in the charter, the Committee will be terminated after delivery of its final report to the Secretary of HHS or two years from the date the charter was filed, whichever comes first.

Purpose of the Meeting: In accordance with FACA and to promote transparency of the process, deliberations of the 2018 PAGAC will occur in a public forum. At this meeting, the 2018 PAGAC will be oriented to the PAG revision process and begin its deliberations.

Meeting Agenda: The meeting agenda will include (a) review of operations for the Committee members, (b) a presentation on the history of the PAG and how they are used, (c) presentation on the literature review process, and (d) plans for future Committee work.

Meeting Registration: The meeting is open to the public. The meeting will be accessible by webcast or by attendance in-person. Pre-registration is required for both web viewing and in-person attendance. To pre-register, please visit www.health.gov/paguidelines. To request a special accommodation, please email niheventapproval@mail.nih.gov.

Webcast Public Participation: After pre-registration, individuals participating by webcast will receive webcast access information via email.

In-Person Public Participation and Building Access: For in-person participants, the meeting will be held within the National Institutes of Health (NIH) PNRC, Building 35, as noted above in the ADDRESSES section. Details regarding registration capacity and directions will be posted on www.health.gov/paguidelines. For in-person participants, check-in at the registration desk onsite at the meeting is required and will begin at 7:30 a.m. E.D.T. each day. Please note that all visitors must enter through the NIH Gateway Center, which opens at 6:00 a.m. E.D.T. You will be asked to submit to a vehicle or personal inspection and provide a government-issued ID.

Public Comments and Meeting Documents: Written comments from the public will be accepted throughout the Committee's deliberative process; opportunities to present oral comments to the Committee will be provided at a future meeting. Written public comments can be submitted and/or viewed at www.health.gov/paguidelines using the “Submit Comments” and “Read Comments” links, respectively. Documents pertaining to Committee deliberations, including meeting agendas and summaries will be available on www.health.gov/paguidelines, and meeting materials will be available for public viewing at the meeting. Meeting information, thereafter, will continue to be accessible online and upon request at the Office of Disease Prevention and Health Promotion, OASH/HHS; 1101 Wootton Parkway, Suite LL100, Tower Building; Rockville, MD 20852; Telephone: (240) 453-8280; Fax: (240) 453-8281.

Dated: June 22, 2016.
Don Wright,
Deputy Assistant Secretary for Health, (Office of Disease Prevention and Health Promotion).

[FR Doc. 2016-15206 Filed 6-27-16; 8:45 am]

BILLING CODE 4150-32-P